DEPARTMENT OF LABOR

Employment and Training Administration

[TA-W-53,506]

Romac Industries, Inc., Sultan, WA; Notice of Termination of Investigation

Pursuant to section 221 of the Trade Act of 1974, as amended, an investigation was initiated on November 12, 2003, in response to a worker petition filed by the company on behalf of workers at Romac Industries, Inc., Sultan, Washington.

The petitioner has requested that the petition be withdrawn. Consequently, the investigation has been terminated.

Signed at Washington, DC, this 18th day of November, 2003.
Richard Church,
Certifying Officer, Division of Trade Adjustment Assistance.

[FR Doc. 03-29666 Filed 11-26-03; 8:45 am]

BILLING CODE 4510-30-P